DEPARTMENT OF ENERGY

Federal Energy Regulatory Commission

[Docket Nos. CP14-103-000; CP14-115-000]

Elba Liquefaction Company, LLC, Southern LNG Company, LLC, Elba Express Company, LLC; Notice of Availability of the Environmental Assessment for the Proposed Elba Liquefaction Project

The staff of the Federal Energy Regulatory Commission (FERC or Commission) has prepared an environmental assessment (EA) for the natural gas facilities proposed by Elba Liquefaction Company, LLC (ELC), Southern LNG Company, LLC (SLNG), and Elba Express Company, LLC (EEC) (collectively referred to as “Companies”) in the above-referenced dockets. The proposed Elba Liquefaction Project and EEC Modification Project are collectively referred to as the Elba Liquefaction Project, or Project. The Companies request authorization to add natural gas liquefaction and exporting capabilities to SLNG's existing Elba Island liquefied natural gas (LNG) terminal (LNG Terminal) and abandon SLNG's existing LNG truck loading facilities at the LNG Terminal in Chatham County, Georgia. In addition, the Companies propose to construct and operate new and modified compression and metering facilities in Hart, Jefferson, and Effingham Counties, Georgia, and in Jasper County, South Carolina. The Project would enable SLNG to export approximately 2.5 million tons per annum of LNG via the existing LNG Terminal in Chatham County, Georgia.

The EA assesses the potential environmental effects of the construction and operation of the Project in accordance with the requirements of the National Environmental Policy Act (NEPA). The FERC staff concludes that approval of the proposed Project, with appropriate mitigating measures, would not constitute a major federal action significantly affecting the quality of the human environment.

The U.S. Department of Energy—Office of Fossil Energy (DOE-FE), U.S. Department of Transportation (DOT), and U.S. Coast Guard (USCG) participated as cooperating agencies in the preparation of the EA. Cooperating agencies have jurisdiction by law or special expertise with respect to resources potentially affected by the proposal and participate in the NEPA analysis, and will adopt and use the EA to support their respective approvals for the Project.

ELC and SLNG propose to construct and operate liquefaction and export facilities in two phases at the LNG Terminal. Phase I of the proposed facilities associated with the LNG Terminal includes installation of three liquefaction system units; installation of a flare system and a marine flare; modifications to the LNG Terminal; and ancillary facilities and support system modifications. Project facilities associated with Phase II include installation of seven additional liquefaction system units, ancillary support systems, and potential additions or upgrades to systems installed as part of Phase I.

ECC proposes to construct and operate facilities on its existing pipeline system in three phases. The Phase I would include the addition of approximately 31,800 horsepower (hp) of compression and metering modifications to the existing Hartwell Compressor Station; construction of a new 15,900 hp compressor station in Jefferson County, Georgia; construction of a new 15,900 hp compressor station in Effingham County, Georgia; installation of new metering facilities at existing sites in Chatham and Effingham County, Georgia and Jasper County, South Carolina; and modifications to segregate the two pipelines that currently extend from Elba Island to Port Wentworth, Georgia.

Phase II would include the addition of approximately 15,900 hp of compression at the existing Hartwell Compressor Station. Phase III would include the addition of approximately 15,900 hp at each of the Hartwell, Jefferson, and Rincon Compressor Stations.

The FERC staff mailed copies of the EA to federal, state, and local government representatives and agencies; elected officials; environmental and public interest groups; Native American tribes; potentially affected landowners and other interested individuals and groups; newspapers and libraries in the Project area; and parties to this proceeding. In addition, the EA is available for public viewing on the FERC's Web site (www.ferc.gov) using the eLibrary link. A limited number of copies of the EA are available for distribution and public inspection at: Federal Energy Regulatory Commission, Public Reference Room, 888 First Street NE., Room 2A, Washington, DC 20426, (202) 502-8371.

Any person wishing to comment on the EA may do so. Your comments should focus on the potential environmental effects, reasonable alternatives, and measures to avoid or lessen environmental impacts. The more specific your comments, the more useful they will be. To ensure that the Commission has the opportunity to consider your comments prior to making its decision on the proposal, it is important that we receive your comments in Washington, DC on or before March 7, 2016.

For your convenience, there are three methods you can use to submit your comments to the Commission. In all instances, please reference the Project docket numbers (CP14-103-000 and CP14-115-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project;

(2) You can also file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Any person seeking to become a party to the proceeding must file a motion to intervene pursuant to Rule 214 of the Commission's Rules of Practice and Procedures (18 CFR 385.214).¹ Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

¹ See the previous discussion on the methods for filing comments.

Additional information about the Project is available from the Commission's Office of External Affairs, at (866) 208-FERC, or on the FERC Web site (www.ferc.gov) using the eLibrary link. Click on the eLibrary link, click on “General Search,” and enter the docket number excluding the last three digits in the Docket Number field (i.e., CP14-103 and/or CP14-115). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to www.ferc.gov/docs-filing/esubscription.asp.

Dated: February 5, 2016.
Nathaniel J. Davis, Sr.,
Deputy Secretary.

[FR Doc. 2016-02756 Filed 2-10-16; 8:45 am]

BILLING CODE 6717-01-P